FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than August 14, 2015.

A. Federal Reserve Bank of Philadelphia (William Lang, Senior Vice President) 100 North 6th Street, Philadelphia, Pennsylvania 19105-1521:

1. George K. Miller, Ft. Lauderdale, Florida; to acquire voting shares of Cornerstone Financial Corporation, and thereby indirectly acquire voting shares of Cornerstone Bank, both in Mt. Laurel, New Jersey.

B. Federal Reserve Bank of Chicago (Colette A. Fried, Assistant Vice President) 230 South LaSalle Street, Chicago, Illinois 60690-1414:

1. Mary K. Sullivan, individually, and as trustee of the following trusts: The John C. Wheeler Irrevocable Trust dated 7/14/89 FBO John Douglas Wheeler; The Mary Alice Wheeler Trust FBO John Douglas Wheeler dated 4/28/98; and The Mary Alice Wheeler Trust FBO John D. Wheeler Family dated 4/12/06, together with John D. Wheeler, as trustee of The John D. Wheeler Revocable Trust, all of Countryside, Illinois, as a group acting in concert, to acquire, voting shares of SBC, Incorporated, and thereby indirectly voting shares of Countryside Bank, both in Countryside, Illinois.

Board of Governors of the Federal Reserve System, July 27, 2015.
Michael J. Lewandowski,
Associate Secretary of the Board.

[FR Doc. 2015-18714 Filed 7-30-15; 8:45 am]

BILLING CODE 6210-01-P